NUCLEAR REGULATORY COMMISSION

[Docket No. 70-3098-MLA; ASLBP No. 07-856-02-MLA-BD01]

Shaw Areva MOX Services (Mixed Oxide Fuel Fabrication Facility); Notice of Atomic Safety and Licensing Board Reconstitution

Pursuant to 10 CFR 2.313(c) and 2.321(b), the Atomic Safety and Licensing Board (Board) in the above-captioned Mixed Oxide Fuel Fabrication Facility license application proceeding is hereby reconstituted by appointing Administrative Judge Paul B. Abramson to serve on the Board in place of Administrative Judge Lawrence G. McDade.

All correspondence, documents, and other materials shall continue to be filed in accordance with 10 CFR 2.302 and any relevant filing directives issued by the Board.

Issued at Rockville, Maryland this 16th day of November 2012.
E. Roy Hawkens,
Chief Administrative Judge, Atomic Safety and Licensing Board Panel.

[FR Doc. 2012-28441 Filed 11-21-12; 8:45 am]

BILLING CODE 7590-01-P